DEPARTMENT OF ENERGY

Environmental Management Site-Specific Advisory Board, Hanford; Meeting

AGENCY: Department of Energy.

ACTION: Notice of open meeting.

SUMMARY: This notice announces a meeting of the Environmental Management Site-Specific Advisory Board (EM SSAB), Hanford. The Federal Advisory Committee Act (Pub. L. 92-463, 86 Stat. 770) requires that public notice of these meeting be announced in the Federal Register.

DATES: Thursday, December 6, 2001, 9 a.m.-5 p.m.; Friday, December 7, 2001, 8:30 a.m.-3 p.m.

ADDRESSES: Radisson Hotel, 1441 NE 2nd Avenue, Portland, OR 97232 (503-233-2401).

FOR FURTHER INFORMATION CONTACT: Gail McClure, Public Involvement Program Manager, Department of Energy Richland Operations Office, P.O. Box 550 (A7-75), Richland, WA, 99352; Phone: (509) 373-5647; Fax: (509) 376-1563.

SUPPLEMENTARY INFORMATION: Purpose of the Board: The purpose of the Board is to make recommendations to DOE and its regulators in the areas of environmental restoration, waste management, and related activities.

Tentative Agenda

Thursday, December 6, 2001

• Introduction and Discussion of Draft Advice on the River Corridor Contract Draft Request for Proposal

• Discussion of the Ad Hoc Task Force who will work with the Tri-Party Agencies on public values and exposure scenarios

• Charter, time frame, and products

• White Paper Discussion: “Evaluating Hanford Public Involvement; Goals, Activities, and a Framework for Discussion”

Friday, December 7, 2001

• Adoption of Draft Advice on the River Corridor Contract Draft Request for Proposal

• Board Action on White Paper: “Evaluating Hanford Public Involvement: Goals, Activities and a Framework for Discussion”

• Update on November 5 Tri-Party Agreement Agency Meeting with the Assistant Secretary for Environmental Management

• Updates

• Tank Waste Committee—near term work priorities

• Budgets and Contracts—Update on FY02 Budget

• Board Evaluation

Public Participation: The meeting is open to the public. Written statements may be filed with the Board either before or after the meeting. Individuals who wish to make oral statements pertaining to agenda items should contact Gail McClure's office at the address or telephone number listed above. Requests must be received five days prior to the meeting and reasonable provision will be made to include the presentation in the agenda. The Deputy Designated Federal Officer is empowered to conduct the meeting in a fashion that will facilitate the orderly conduct of business. Each individual wishing to make public comment will be provided equal time to present their comments.

Minutes: The minutes of this meeting will be available for public review and copying at the Freedom of Information Public Reading Room, 1E-190, Forrestal Building, 1000 Independence Avenue, SW., Washington, DC 20585 between 9 a.m. and 4 p.m., Monday-Friday, except Federal holidays. Minutes will also be available by writing to Gail McClure, Department of Energy Richland Operation Office, PO Box 550, Richland, WA 99352, or by calling her at (509) 373-5647.

Issued at Washington, DC, on November 13, 2001.
Rachel M. Samuel,
Deputy Advisory Committee Management Officer.

[FR Doc. 01-28824 Filed 11-16-01; 8:45 am]

BILLING CODE 6450-01-P